FEDERAL RETIREMENT THRIFT INVESTMENT BOARD

Sunshine Act; Notice of Meeting

Time and Date: 9 a.m. (Eastern Time), November 24, 2008.

Place: 4th Floor Conference Room, 1250 H Street, NW., Washington, DC 20005.

Status: Parts will be open to the public and parts closed to the public.

Matters To Be Considered:

Parts Open to the Public

1. Approval of the minutes of the October 20, 2008 Board member meeting.

2. Thrift Savings Plan activity report by the Executive Director.

a. Monthly Participant Activity Report.

b. Legislative Report.

c. Investment Performance Review.

3. Securities Lending Activity.

4. 2008 Participant Survey.

5. Internal Controls Update.

6. Vendor Financials Follow-up.

7. 2009 FRTIB Meeting Calendar.

Parts Closed to the Public

8. Security.

Contact Person for More Information: Thomas J. Trabucco, Director, Office of External Affairs, (202) 942-1640.

Dated: November 7, 2008.
Thomas K. Emswiler,
Secretary, Federal Retirement Thrift Investment Board.

[FR Doc. E8-27020 Filed 11-12-08; 11:15 am]

BILLING CODE 6760-01-P